DEPARTMENT OF HEALTH AND HUMAN SERVICES

Centers for Disease Control and Prevention

[30Day-15-14KE]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

A Comprehensive Evaluation of a Paid Social Media and Mass Media Gynecologic Cancer Campaign—New—National Center for Chronic Disease Prevention and Health Promotion (NCCDPHP), Centers for Disease Control and Prevention (CDC).

Background and Brief Description

As authorized by The Gynecologic Cancer Education and Awareness Act, CDC currently manages the “Inside Knowledge: Get the Facts About Gynecologic Cancer” media campaign. The campaign seeks to increase women's intentions to seek medical attention for symptoms that could be indicative of gynecologic cancer.

CDC plans to conduct an evaluation of the Inside Knowledge (IK) campaign by collecting information from the target audience of women ages 40-65 in four cities (Milwaukee, Wisconsin; Cincinnati, Ohio; Las Vegas, Nevada and San Antonio, Texas). In two of the cities (Milwaukee and San Antonio), the national IK campaign will be augmented by an additional paid media campaign. Evaluation information will be collected at two time points in each city (a pre-campaign survey plus one additional post-campaign survey after the media intervention). Separate cross-sectional samples of new respondents will participate at each point in time. This will allow CDC to assess exposure to campaign messages as a function of media “dose” and to assess whether women who reside in cities with additional paid media have higher awareness of the campaign, higher knowledge of gynecological cancers, and greater intentions to seek medical attention for gynecologic cancer symptoms and/or to discuss symptoms with their doctor. CDC initially considered a more complex evaluation strategy that involved four waves of data collection in each city coinciding with the release of various combinations of digital media and traditional media. The current campaign evaluation strategy is based on a simplified design that allows CDC to assess main campaign effects with a smaller number of respondents.

Respondents will be recruited from a national opt-in online survey panel that prescreens participants and increases the likelihood that they meet eligibility criteria and live within the cities where the media campaigns are implemented. The total number of respondents in each study location is approximately 606 (303 respondents who participate in the pre-campaign information collection, and 303 respondents who participate in the post-campaign information collection). The target number of completed responses for the overall campaign evaluation study is 2,424. The estimated number of incomplete responses (individuals who drop out during or after completion of the Screening Section of the survey) is 606.

Potential respondents will receive an email invitation that describes the study and provides a link to the survey Web site. Information will then be collected through self-administered, Web-based surveys. Survey items will include measures of audience recall of the campaign; perceptions of campaign messages; gynecologic health related knowledge, attitudes, and beliefs; intentions to seek care for symptoms associated gynecologic cancers; and sociodemographic characteristics.

Results of this evaluation study will be used to inform CDC, policymakers, prevention practitioners, researchers, and the general U.S. population about the reach and impact of the Inside Knowledge gynecologic health awareness campaign, and to inform the development and implementation of future health communication efforts.

OMB approval is requested for one year. The same survey instrument will be used for all information collection. Participation is voluntary and there are no costs to respondents other than their time. The total estimated burden hours are 838.

Estimated Annualized Burden Hours
Type of respondents | Form name | Number of respondents | Number of responses per respondent | Average burden per response (in hours)
Women Ages 45-60 in Milwaukee, Cincinnati, Las Vegas, or San Antonio | Women's Health Survey (Screening Section only) | 606 | 1 | 3/60
| Women's Health Survey (complete) | 2,424 | 1 | 20/60

Leroy A. Richardson,
Chief, Information Collection Review Office, Office of Scientific Integrity, Office of the Associate Director for Science, Office of the Director, Centers for Disease Control and Prevention.

[FR Doc. 2015-00230 Filed 1-9-15; 8:45 am]

BILLING CODE 4163-18-P